DEPARTMENT OF TRANSPORTATION

Pipeline and Hazardous Materials Safety Administration

49 CFR Part 192

[Docket ID PHMSA-2011-0023]

RIN 2137-AE72

Pipeline Safety: Safety of Gas Transmission Pipelines

AGENCY: Pipeline and Hazardous Materials Safety Administration (PHMSA); DOT.

ACTION: Advance notice of proposed rulemaking; extension of comment period.

SUMMARY: On August 25, 2011, (76 FR 53086) PHMSA published in the Federal Register an Advance Notice of Proposed Rulemaking (ANPRM) titled: “Safety of Gas Transmission Pipelines” seeking comments on the need for changes to the regulations covering gas transmission pipelines. PHMSA has received requests to extend the comment period in order to have more time to evaluate the ANPRM. PHMSA is extending the comment period from December 2, 2011, to January 20, 2012.

DATES: The closing date for filing comments is extended from December 2, 2011, until January 20, 2012.

ADDRESSES: Comments should reference Docket No. PHMSA-2011-0023 and may be submitted in the following ways:

• E-Gov Web Site: http://www.Regulations.gov. This site allows the public to enter comments on any Federal Register notice issued by any agency.

• Fax: 1 (202) 493-2251.

• Mail: DOT Docket Management System: U.S. DOT, Docket Operations, M-30, West Building Ground Floor, Room W12-140, 1200 New Jersey Avenue SE., Washington, DC 20590-0001.

Hand Delivery: U.S. DOT Docket Management System; West Building Ground Floor, Room W12-140, 1200 New Jersey Avenue SE., Washington, DC 20590-0001 between 9 a.m. and 5 p.m., Monday through Friday, except Federal holidays.

Instructions: You should identify the Docket No. PHMSA-2011-0023 at the beginning of your comments. If you submit your comments by mail, submit two copies. To receive confirmation that PHMSA received your comments, include a self-addressed stamped postcard. Internet users may submit comments at http://www.regulations.gov.

Note: Comments are posted without changes or edits to http://www.regulations.gov, including any personal information provided. There is a privacy statement published on http://www.regulations.gov.

FOR FURTHER INFORMATION CONTACT: For further information contact Mike Israni at (202) 366-4566 or by email at mike.israni@dot.gov.

SUPPLEMENTARY INFORMATION: On August 25, 2011, (76 FR 53086), PHMSA published an ANPRM seeking comments on the need for changes to the regulations covering gas transmission pipelines. Within this ANPRM, PHMSA is seeking public comment on 15 specific topic areas in two broad categories (integrity management (IM) and Non-IM requirements). In particular, PHMSA is interested in knowing whether IM requirements should be changed, more prescriptive language added in some areas, and non-IM requirements strengthened or expanded. Among the specific issues PHMSA is considering concerning IM requirements is whether the definition of a high-consequence area should be revised, and whether additional restrictions should be placed on the use of specific pipeline assessment methods. With respect to non-IM requirements, PHMSA is considering whether revised requirements are needed on new construction or existing pipelines concerning mainline valves, whether requirements for corrosion control of steel pipelines should be strengthened, and whether new regulations are needed to govern the safety of gathering lines and underground gas storage facilities.

On September 9, 2011, the Interstate Natural Gas Association of America (INGAA) and the American Gas Association (AGA) requested that PHMSA extend the comment period of the ANPRM by 90 days. INGAA and AGA supported their request stating that the ANPRM poses a large number of multi-part questions that cover 15 separate topic areas. They stated that to thoughtfully and thoroughly address the issues, significant effort on the part of all stakeholders is required, and may include industry-wide surveys. They stated that questions regarding cost implications and various other impacts will entail an integrated effort within the industry to provide a quality, validated, and vetted answer. Also, they stated that timing supports their request because they are currently in the initial phases of implementing the Control Room Management regulations, and completing and verifying their 2011 projects and conducting maintenance, budget and planning activities that will directly impact their pipeline safety compliance efforts this year and next. In addition, they stated that PHMSA granted an extension of time allowing parties four months to comment on the hazardous liquid ANPRM and, therefore, a 90-day extension of the comment period is further justified by the depth and scope of the issues addressed in the natural gas ANPRM.

Through this ANPRM, PHMSA has raised several important and complex public safety issues, many of which, if implemented, could impose significant cost on the pipeline industry. PHMSA needs very thorough responses to the questions we have posed in the ANPRM in order to facilitate PHMSA's decision making on these very important and complex issues. Based on the reasons given by INGAA and AGA in their request to extend the comment period, and PHMSA's need to have the best data possible to facilitate its decisions relative to these issues, PHMSA believes that extension of the comment period is warranted. Therefore, PHMSA has extended the comment period from December 2, 2011, to January 20, 2012.

Issued in Washington, DC, on November 3, 2011.
Jeffrey D. Wiese,
Associate Administrator for Pipeline Safety.

[FR Doc. 2011-29497 Filed 11-15-11; 8:45 am]

BILLING CODE 4910-60-P